DEPARTMENT OF HEALTH AND HUMAN SERVICES

National Institutes of Health

National Cancer Institute; Amended Notice of Meeting

Notice is hereby given of a change in the meeting of the National Cancer Advisory Board, September 4, 2019, 8:30 a.m. to September 5, 2019, 12:00 p.m., National Institutes of Health, National Cancer Institute Shady Grove, 9609 Medical Center Drive, Room TE406 & 408, Rockville, MD 20817 which was published in the Federal Register on February 11, 2019, 84 FR 3203.

This meeting notice is amended to change the meeting from a face-to-face meeting on September 4, 2019, 8:30 a.m. to September 5, 2019, 12:00 p.m. to a virtual meeting on September 4, 2019 from 1:00 p.m. to 4:30 p.m. The open session will be held from 1:00 p.m. to 3:15 p.m. and the closed session will be held from 3:30 p.m. to 4:30 p.m. The open session will be videocast and can be accessed from the NIH Videocasting and Podcasting website (http://videocast.nih.gov). The meeting is partially closed to the public.

Dated: August 8, 2019.
Melanie J. Pantoja,
Program Analyst, Office of Federal Advisory Committee Policy.

[FR Doc. 2019-17399 Filed 8-13-19; 8:45 am]

BILLING CODE 4140-01-P